DEPARTMENT OF HOMELAND SECURITY

Coast Guard

33 CFR Parts 140 and 146

46 CFR Parts 4 and 109

[Docket No. USCG-2013-1057]

RIN 1625-AB99

Marine Casualty Reporting on the Outer Continental Shelf

AGENCY: Coast Guard, DHS.

ACTION: Supplemental notice of proposed rulemaking; extension of comment period.

SUMMARY: The Coast Guard is extending the comment period for the supplemental notice of proposed rulemaking, “Marine Casualty Reporting on the Outer Continental Shelf,” published June 14, 2023, that seeks comments on proposed changes to reporting criteria for certain casualties on the outer continental shelf (OCS) and a proposed increase to property damage dollar threshold that triggers a casualty report for fixed facilities on the OCS. We are extending the comment period an additional 60 days to allow the public more time to comment. The comment period is now open through November 13, 2023.

DATES: The comment period for the supplemental notice of proposed rulemaking published June 14, 2023, (88 FR 38765) is extended. Comments and related material must be received by the Coast Guard on or before November 13, 2023.

ADDRESSES: You may submit comments identified by docket number USCG-2013-1057 using the Federal eRulemaking Portal at https://www.regulations.gov. See the “Public Participation and Request for Comments” portion of the SUPPLEMENTARY INFORMATION section for further instructions on submitting comments.

FOR FURTHER INFORMATION CONTACT: For information about this document call or email LCDR Laura Fitzpatrick, Office of Investigations and Casualty Analysis (CG-INV), Coast Guard; telephone 202-372-1032, email Laura.M.Fitzpatrick@uscg.mil.

SUPPLEMENTARY INFORMATION:

Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at www.regulations.gov. If you cannot submit your material by using www.regulations.gov, call or email the person in the FOR FURTHER INFORMATION CONTACT section of this proposed rule for alternate instructions. We review all comments received, but we will only post comments that address the topic of the proposed rule. We may choose not to post off-topic, inappropriate, or duplicate comments that we receive.

We accept anonymous comments. All comments we post to https://www.regulations.gov will include any personal information you have provided. For more about privacy and submissions in response to this document, see the Department of Homeland Security's eRulemaking System of Records notice (85 FR 14226, March 11, 2020).

Background and Discussion

The Coast Guard issued a supplemental notice of proposed rulemaking (SNPRM) entitled “Marine Casualty Reporting on the Outer Continental Shelf,” on June 14, 2023 (88 FR 38765). In it we propose changing the reporting criteria for changing the reporting criteria for certain casualties that occur on foreign floating outer continental shelf (OCS) facilities (FOFs), mobile offshore drilling units (MODUs), and vessels engaged in OCS activities. In addition, the SNPRM proposes to raise the property damage dollar threshold that triggers a casualty report from $25,000 to $75,000 for fixed facilities on the OCS because the original regulation setting the property damage threshold amount was issued in the 1980s and has not since been updated. This SNPRM would update Coast Guard regulations to keep up with technology, improve awareness of accident trends on the OCS, improve safety on the OCS, and reduce the regulatory burden on operators of fixed OCS platforms.

We set a 90-day comment period for the SNRPM and received several requests to extend the comment period. The requesters cited need for additional time to provide constructive responses to the SNRPM and a lack of awareness about the SNPRM among members of the affected industry as reasons for the requested extension.

In response to this request, we decided to extend the public comment period by 60 days. The comment period is now open through November 13, 2023.

Dated: September 8, 2023.
W.R. Arguin,
Rear Admiral, U.S. Coast Guard, Assistant Commandant for Prevention Policy.

[FR Doc. 2023-19811 Filed 9-11-23; 8:45 am]

BILLING CODE 9110-04-P